DEPARTMENT OF ENERGY

Federal Energy Regulatory Commission

Combined Notice of Filings

Take notice that the Commission has received the following Natural Gas Pipeline Rate and Refund Report filings:

Filings Instituting Proceedings

Docket Numbers: RP11-2559-000.

Applicants: Gulf South Pipeline Company, LP.

Description: Gulf South Pipeline Company, LP submits tariff filing per 154.204: Chesapeake 35040-3 Amendment to Negotiated Rate Agreement to be effective 9/8/2011.

Filed Date: 09/08/2011.

Accession Number: 20110908-5145.

Comment Date: 5 p.m. Eastern Time on Tuesday, September 20, 2011.

Docket Numbers: RP11-2560-000.

Applicants: Gulf Crossing Pipeline Company LLC.

Description: Gulf Crossing Pipeline Company LLC submits tariff filing per 154.204: Housekeeping for Agreements Volume to be effective 9/12/2011.

Filed Date: 09/12/2011.

Accession Number: 20110912-5064.

Comment Date: 5 p.m. Eastern Time on Monday, September 26, 2011.

Docket Numbers: RP11-2561-000.

Applicants: East Cheyenne Gas Storage, LLC.

Description: East Cheyenne Gas Storage, LLC submits tariff filing per 154.203: East Cheyenne Compliance filing to be effective 12/31/9998.

Filed Date: 09/13/2011.

Accession Number: 20110913-5000.

Comment Date: 5 p.m. Eastern Time on Monday, September 26, 2011.

Docket Numbers: RP11-2562-000.

Applicants: Trunkline Gas Company, LLC.

Description: Trunkline Gas Company, LLC submits tariff filing per 154.601: Negotiated Rates Filing—1 to be effective 9/14/2011.

Filed Date: 09/13/2011.

Accession Number: 20110913-5088.

Comment Date: 5 p.m. Eastern Time on Monday, September 26, 2011.

Docket Numbers: RP11-2563-000.

Applicants: Northwest Pipeline GP.

Description: Northwest Pipeline GP submits tariff filing per 154.204: NWP 2011 Housekeeping Filing to be effective 10/14/2011.

Filed Date: 09/13/2011.

Accession Number: 20110913-5112.

Comment Date: 5 p.m. Eastern Time on Monday, September 26, 2011.

Docket Numbers: CP11-542-000.

Applicants: UGI Storage Company.

Description: Abbreviated Application of UGI Storage Company to Amend Certificate of Public Convenience and Necessity, for Blanket Certificate Authority and for Approval of Market-Based Rates under Section 7 of the Natural Gas Act.

Filed Date: 08/31/2011.

Accession Number: 20110831-5193.

Comment Date: 5 p.m. Eastern Time on Friday, September 23, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP11-2467-001.

Applicants: Kern River Gas Transmission Company.

Description: Kern River Gas Transmission Company submits tariff filing per 154.205(b): 2011 SoCal Non-conforming Agreement Amendment to be effective 9/1/2011.

Filed Date: 09/09/2011.

Accession Number: 20110909-5105.

Comment Date: 5 p.m. Eastern Time on Wednesday, September 21, 2011.

Docket Numbers: RP11-2471-001.

Applicants: Transcontinental Gas Pipe Line Company, LLC.

Description: Transcontinental Gas Pipe Line Company, LLC submits tariff filing per 154.205(b): Amendment to Previous Filing in Docket No. RP11-2471-000 to be effective 9/30/2011.

Filed Date: 09/08/2011.

Accession Number: 20110908-5124.

Comment Date: 5 p.m. Eastern Time on Tuesday, September 20, 2011.

Any person desiring to protest in any of the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: September 14, 2011.
Nathaniel J. Davis, Sr.,
Deputy Secretary.

[FR Doc. 2011-28363 Filed 11-1-11; 8:45 am]

BILLING CODE 6717-01-P